ENVIRONMENTAL PROTECTION AGENCY

40 CFR Parts 52 and 81

[OH159-2; FRL-7799-8]

Approval and Promulgation of Air Quality Implementation Plans; Ohio; Withdrawal of Direct Final Rule

AGENCY: Environmental Protection Agency (EPA).

ACTION: Withdrawal of direct final rule.

SUMMARY: Due to the receipt of an adverse comment, the EPA is withdrawing the July 8, 2004 (69 FR 41336) direct final rule which would have approved revisions to Ohio's State Implementation Plan for Sulfur Dioxide (SO2) for Cuyahoga, Lake, Mahoning, Monroe, Washington, Adams, Allen, Clermont, Lawrence, Montgomery, Muskingum, Pike, Ross and Wood Counties. It also would have approved the redesignation of Cuyahoga County to attainment of the national ambient air quality standards for SO2 and the SO2 maintenance plan for Cuyahoga County. In the direct final rule, EPA stated that if EPA received an adverse comment by August 9, 2004, the rule would be withdrawn and not take effect. On July 12, 2004, EPA received a comment. EPA believes this comment is adverse and, therefore, EPA is withdrawing the direct final rule. EPA will address the comment received in a subsequent final action based upon the proposed action also published on July 8, 2004 (69 FR 41344). EPA will not institute a second comment period on this action.

DATES: The direct final rule published at 69 FR 41336 on July 8, 2004 is withdrawn as of August 13, 2004.

FOR FURTHER INFORMATION CONTACT: John Summerhays, Criteria Pollutant Section, Air Programs Branch (AR-18J), U.S. Environmental Protection Agency, Region 5, 77 West Jackson Boulevard, Chicago, Illinois 60604, Telephone: (312) 886-6067. E-mail Address: summerhays.john@epa.gov.

List of Subjects

40 CFR Part 52

Environmental protection, Air pollution control, Incorporation by reference, Intergovernmental relations, Reporting and recordkeeping requirements, Sulfur dioxide.

40 CFR Part 81

Air pollution control, National parks, Wilderness areas.

Dated: August 3, 2004.
Bharat Mathur,
Acting Regional Administrator, Region 5.

PART 52—[AMENDED]

Accordingly, the amendments to 40 CFR 52.1870, 40 CFR 52.1881 and 40 CFR 81.336 published in the Federal Register on July 8, 2004 (69 FR 41336 on pages 41342-41343) are withdrawn as of August 13, 2004.

[FR Doc. 04-18459 Filed 8-12-04; 8:45 am]

BILLING CODE 6560-50-P